DEPARTMENT OF THE INTERIOR

National Park Service

Notice of Inventory Completion: Washington State Parks and Recreation Commission, Olympia, WA and Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains and associated funerary objects in the control of the Washington State Parks and Recreation Commission, Olympia, WA and in the physical custody of the Thomas Burke Memorial Washington State Museum (Burke Museum), University of Washington, Seattle, WA. The human remains and associated funerary objects were removed from Old Man House State Park, Kitsap County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Washington State Parks and Recreation Commission and Burke Museum professional staff in consultation with representatives of the Port Gamble Indian Community of the Port Gamble Reservation, Washington and Suquamish Indian Tribe of the Port Madison Reservation, Washington.

In 1951, human remains representing a minimum of three individuals were removed from Old Man House (45-KP-2) in Kitsap County, WA, by Warren Snyder, as part of a University of Washington field expedition. The human remains were transferred to the Burke Museum where they were later accessioned (Burke Accn. #1966-81). No known individuals were identified. The 29 associated funerary objects are 28 shells and 1 cedar wood fragment.

Archeological information suggests that the Old Man House site was used for over 2000 years. The human remains were buried in a semi-flexed position and covered with red ochre. One burial had a group of dentalium shells placed over the individual. The burial practices are consistent with burial practices of the Puget Sound Coast Salish.

The Lushootseed name for the Old Man House site is D'Suq'wub. Members of the Suquamish tribe speak the Lushootseed language. The site is also the location of the long house where “Chief” Sealth, also known as Chief Seattle, a leader of the Suquamish, once lived. The earliest written ethnographic information describing the longhouse referred to as Old Man House was by George Gibbs in 1855. Descendants of the Puget Sound Coast Salish and Suquamish are members of the Suquamish Indian Tribe of the Port Madison Reservation, Washington.

In 1855, the Point Elliot Treaty allocated the land where Old Man House was to the Suquamish. The Suquamish were later removed from these lands in 1904 and 1905, when the United States government seized the land. By 1950, Washington State Parks and Recreation Commission acquired the land where site 45-KP-2 is located.

Based on archeological, historic, ethnographic, and morphological evidence the human remains are determined to be culturally affiliated with the Suquamish Indian Tribe of the Port Madison Reservation, Washington.

Officials of the Washington State Parks and Recreation Commission and Burke Museum have determined that, pursuant to 25 U.S.C. 3001 (9-10), the human remains described above represent the physical remains of three individuals of Native American ancestry. Officials of the Washington State Parks and Recreation Commission and Burke Museum also have determined that, pursuant to 25 U.S.C. 3001 (3)(A), the 29 objects described above are reasonably believed to have been placed with or near individual human remains at the time of death or later as part of the death rite or ceremony. Lastly, officials of the Washington State Parks and Recreation Commission and Burke Museum have determined that, pursuant to 25 U.S.C. 3001 (2), there is a relationship of shared group identity that can be reasonably traced between the Native American human remains and associated funerary objects and the Suquamish Indian Tribe of the Port Madison Reservation, Washington.

Representatives of any other Indian tribe that believes itself to be culturally affiliated with the human remains and associated funerary objects should contact Cindy Sulenes Farr, Washington State Parks & Recreation Commission, 7150 Cleanwater Lane, P.O. Box 42650, Olympia, WA 98504, telephone (360) 902-8623 before June 18, 2007. Repatriation of the human remains and associated funerary objects to the Suquamish Indian Tribe of the Port Madison Reservation, Washington may proceed after that date if no additional claimants come forward.

The Burke Museum is responsible for notifying the Port Gamble Indian Community of the Port Gamble Reservation, Washington and Suquamish Indian Tribe of the Port Madison Reservation, Washington that this notice has been published.

Dated: March 15, 2007.
Sherry Hutt,
Manager, National NAGPRA Program.

[FR Doc. E7-9452 Filed 5-16-07; 8:45 am]

BILLING CODE 4312-50-S